DEPARTMENT OF AGRICULTURE

Food Safety and Inspection Service

[Docket No. 03-043N]

Notice of Request for Extension of a Currently Approved Information Collection (Procedures for Notification of New Technology)

AGENCY: Food Safety and Inspection Service, USDA.

ACTION: Notice and request for comments.

SUMMARY: In accordance with the Paperwork Reduction Act of 1995 and the Office of Management and Budget (OMB) regulations, this notice announces the Food Safety and Inspection Service's (FSIS) intention to request an extension for a currently approved information collection package (ICP) regarding Procedures for Notification of New Technology.

DATES: Comments on this notice must be received on or before April 5, 2004.

Additional Information or Comments: Contact John O'Connell, Paperwork Reduction Act Coordinator, Food Safety and Inspection Service, USDA, 300 12th Street, SW., Room 112, Washington, DC 20250-3700, (202) 720-0345.

SUPPLEMENTARY INFORMATION:

Title: Procedures for Notification of New Technology.

OMB Number: 0583-0127.

Expiration Date of Approval: 2/29/2004.

Type of Request: Extension of a currently approved information collection.

Abstract: FSIS has been delegated the authority to exercise the functions of the Secretary as specified in the Federal Meat Inspection Act (FMIA) (21 U.S.C. 601 et seq.), the Poultry Products Inspection Act (PPIA) (21 U.S.C. 451 et seq.), and the Egg Products Inspection Act (EPIA) (21 U.S.C. 1031 et seq.). These statutes mandate that FSIS protect the public by taking regulatory actions to provide that meat, poultry, and egg products are safe, wholesome, unadulterated, and properly labeled and packaged.

FSIS is requesting an extension to the ICP addressing paperwork and recordkeeping requirements regarding the procedures for notification of new technology.

FSIS has established procedures for notifying the Agency of any new technology intended for use in official establishments and plants. To follow the procedures, establishments, plants, and firms that manufacture and sell technology to official establishments and plants notify the Agency by submitting documents describing the operation and purpose of the new technology. The documents should explain why the new technology will not: adversely affect the safety of the product, jeopardize the safety of Federal inspection personnel, interfere with inspection procedures, or require a waiver to a regulation. In addition, if the new technology could adversely affect the safety of the product, jeopardize the safety of Federal inspection personnel, interfere with inspection procedures, or require a waiver to a regulation, submitters are to provide a protocol for an in-plant trial as part of a pre-use review. FSIS expects the submitter of a protocol to provide data to the Agency throughout the duration of the in-plant trial.

Estimate of Burden: The public reporting burden for this collection of information is estimated to average 25 hours per response.

Respondents: Official establishments and plants; firms that manufacture or sell technology.

Estimated Number of Respondents: 290.

Estimated Number of Responses per Respondent: 1.

Estimated Total Annual Burden on Respondents: 8,400. Copies of this information collection assessment can be obtained from John O'Connell, Paperwork Reduction Act Coordinator, Food Safety and Inspection Service, USDA, 300 12th Street, SW., Room 112, Washington, DC 20250-3700, (202) 720-5627, (202) 720-0345.

Comments are invited on: (a) Whether the proposed collection of information is necessary for the proper performance of FSIS' functions, including whether the information will have practical utility; (b) the accuracy of FSIS' estimate of the burden of the proposed collection of information, including the validity of the methodology and assumptions used; (c) ways to enhance the quality, utility, and clarity of the information to be collected; ways to minimize the burden of the collection of information on those who are to respond, including through the use of appropriate automated, electronic, mechanical, or other technological collection techniques, or other forms of information technology. Comments may be sent to both John O'Connell, Paperwork Reduction Act Coordinator, at the address provided above, and the Desk Officer for Agriculture, Office of Information and Regulatory Affairs, Office of Management and Budget, Washington, DC 20253.

All responses to this notice will be summarized and included in the request for OMB approval. All comments will also become a matter of public record.

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the Internet at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and web page, FSIS is able to provide information to a much broader, more diverse audience.

For more information contact the Congressional and Public Affairs Office, at (202) 720-9113. To be added to the free e-mail subscription service (Listserv) go to the “Constituent Update” page on the Internet at http://www.fsis.usda.gov/oa/update/update.htm. Click on the “Subscribe to the Constituent Update Listserv” link, then fill out and submit the form.

Done at Washington, DC, on January 29, 2004.
Garry L. McKee,
Administrator.

[FR Doc. 04-2137 Filed 2-2-04; 8:45 am]

BILLING CODE 3410-DM-P